SMALL BUSINESS ADMINISTRATION

Audit and Financial Management Advisory (AFMAC) Committee Meeting

The U.S. Small Business Administration's Audit and Financial Management Advisory Committee (AFMAC) will be hosting its second meeting to discuss such matters that may be presented by members, and staff of the U.S. Small Business Administration, or others present. The meeting will begin on Monday, November 8, 2004, starting at 9 a.m. until noon. The meeting will be held at the U.S. Small Business Administration Headquarters, located at 409 3rd Street, SW., Washington, DC 20416, in the Chief Financial Officer's Conference Room, 6th Floor.

Anyone wishing to attend must contact Thomas Dumaresq in writing or by fax. Thomas Dumaresq, Chief Financial Officer , 409 3rd Street SW., Washington DC 20416, phone (202) 205-6506, fax: (202) 205-6869, e-mail: thomas.dumaresq@sba.gov.

Matthew K. Becker,
Committee Management Officer.

[FR Doc. 04-23403 Filed 10-18-04; 8:45 am]

BILLING CODE 8025-01-P